DEPARTMENT OF COMMERCE

Foreign-Trade Zones Board

[B-25-2021]

Foreign-Trade Zone 149—Freeport, Texas; Application for Expansion and Modification of Subzone 149C; Phillips 66 Company, Brazoria County, Texas

An application has been submitted to the Foreign-Trade Zones (FTZ) Board by Port Freeport, grantee of FTZ 149, requesting authority to modify the boundaries of Subzone 149C on behalf of Phillips 66 Company located in Brazoria County, Texas. The application was submitted pursuant to the provisions of the Foreign-Trade Zones Act, as amended (19 U.S.C. 81a-81u), and the regulations of the FTZ Board (15 CFR part 400). It was formally docketed on March 22, 2021.

Subzone 149C was approved by the Board on September 25, 1997 (Board Order 920, 62 FR 51830, October 3, 1997) and expanded on August 2, 2016 (Board Order 2010, 81 FR 52823-52824, August 10, 2016). The subzone currently consists of six sites totaling 2,170 acres: Site 1 (1,315 acres)—main refinery and petrochemical complex located at 8189 Old FM 524 Road, Old Ocean; Site 2 (160 acres)—Freeport I Terminal and storage facility located at County Road 731, some 28 miles southeast of the refinery; Site 3 (183 acres)—six crude oil storage tanks at Jones Creek Terminal located at 6215 State Highway 36, some 17 miles southeast of the refinery; Site 4 (34 acres)—San Bernard Terminal and storage facility located at County Road 378, 5 miles southeast of the refinery; Site 5 (478 acres)—Clemens Terminal underground LPG storage located at County Road 314, 15 miles east of the refinery; and, Site 6—consisting of a six-mile pipeline.

The applicant is requesting authority to modify the boundaries of the subzone's Site 1 as follows: (1) Expand the site by adding 490 acres; and, 2) remove 220 acres from the site. Modified Site 1 would consist of 1,585 acres. No additional authorization for production activity has been requested at this time.

In accordance with the FTZ Board's regulations, Camille Evans of the FTZ Staff is designated examiner to review the application and make recommendations to the FTZ Board.

Public comment is invited from interested parties. Submissions shall be addressed to the FTZ Board's Executive Secretary and sent to: ftz@trade.gov. The closing period for their receipt is May 3, 2021. Rebuttal comments in response to material submitted during the foregoing period may be submitted during the subsequent 15-day period to May 18, 2021.

A copy of the application will be available for public inspection in the “Reading Room” section of the FTZ Board's website, which is accessible via www.trade.gov/ftz.

For further information, contact Camille Evans at Camille.Evans@trade.gov.

Dated: March 22, 2021.
Andrew McGilvray,
Executive Secretary.

[FR Doc. 2021-06294 Filed 3-25-21; 8:45 am]

BILLING CODE 3510-DS-P